DEPARTMENT OF DEFENSE

Department of the Navy

Meeting of the Ocean Research and Resources Advisory Panel

AGENCY: Department of the Navy, DoD.

ACTION: Notice.

SUMMARY: The Ocean Research and Resources Advisory Panel (ORRAP) will meet to discuss National Ocean Research Leadership Council (NORLC) and Interagency Committee on Ocean Science and Resource Management Integration (ICOSRMI) activities. All sessions of the meeting will be open to the public.

DATES: The meeting will be held on Tuesday, April 15, 2008 from 8 a.m. to 5:30 p.m. and Wednesday, April 16, 2008 from 8 a.m. to 1:30 p.m.

ADDRESSES: The meetings will be held at the Consortium for Ocean Leadership located at 1201 New York Ave, Suite 420, Washington, DC.

FOR FURTHER INFORMATION CONTACT: Dr. Charles L. Vincent, Office of Naval Research, 875 North Randolph Street, Suite 1425, Arlington, VA 22203-1995, telephone: 703-696-4118.

SUPPLEMENTARY INFORMATION: This notice is provided in accordance with the provisions of the Federal Advisory Committee Act (5 U.S.C. App. 2). The meeting will include discussions on ocean research to applications, ocean observing, professional certification programs, and other current issues in the ocean science and resource management communities. In order to maintain the meeting time schedule, members of the public will be limited in their time to speak to the Panel. Members of the public should submit written comments at least one week prior to the meeting to Dr. Charles L. Vincent, Office of Naval Research, 875 North Randolph Street, Suite 1425, Arlington, VA 22203-1995, telephone: 703-696-4118.

Dated: February 22, 2008.
T.M. Cruz,
Lieutenant, Office of the Judge Advocate General, U.S. Navy, Federal Register Liaison Officer.

[FR Doc. E8-3893 Filed 2-28-08; 8:45 am]

BILLING CODE 3810-FF-P